DEPARTMENT OF HOMELAND SECURITY

Coast Guard

33 CFR Part 117

[Docket No. USCG-2013-0936]

Drawbridge Operation Regulations; Upper Mississippi River, Rock Island, IL

AGENCY: Coast Guard, DHS.

ACTION: Notice canceling temporary deviation from regulations.

SUMMARY: The Coast Guard is canceling the temporary deviation concerning the Rock Island Railroad and Highway Drawbridge across the Upper Mississippi River, mile 482.9, at Rock Island, Illinois due to work scheduling issues and has been postponed to a later date.

DATES: The temporary deviation published on November 22, 2013, 78 FR 69995, is cancelled as of January 22, 2014.

ADDRESSES: The docket for this deviation, [USCG-2013-0936] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this cancellation, call or email Eric A. Washburn, Bridge Administrator, Western Rivers, Coast Guard; telephone 314-269-2378, email Eric.Washburn@uscg.mil. If you have questions on viewing the docket, call Cheryl Collins, Program Manager, Docket Operations, telephone 202-366-9826.

SUPPLEMENTARY INFORMATION:

A. Basis and Purpose

On November 22, 2013, we published a temporary deviation entitled “Drawbridge Operation Regulation; Upper Mississippi River, Rock Island, IL” in the Federal Register (78 FR 69995). The temporary deviation concerned a change from the operating schedule that governs the Rock Island Railroad and Highway Drawbridge across the Upper Mississippi River, mile 482.9, at Rock Island, Illinois. The bridge owner was scheduled to perform preventive maintenance and critical repairs that are essential to the continued safe operation of the drawbridge. The work was scheduled in the winter, when the impact on navigation was minimal, instead of scheduling the work at other times in the year, when river traffic is prevalent. The deviation allowed the bridge to be maintained in the closed-to-navigation position for 77 days. This deviation from the operating regulations was authorized under 33 CFR 117.35.

B. Cancellation

This deviation is cancelled as of January 22, 2014, due to work scheduling issues during the winter months.

Dated: February 7, 2014.
Eric A. Washburn,
Bridge Administrator, Western Rivers.

[FR Doc. 2014-03873 Filed 2-21-14; 8:45 am]

BILLING CODE 9110-04-P